DEPARTMENT OF COMMERCE

National Oceanic and Atmospheric Administration

50 CFR Part 680

RIN 0648-AW97

Fisheries of the Exclusive Economic Zone Off Alaska; Bering Sea and Aleutian Islands Crab Rationalization Program

Correction

In proposed rule document E8-28015 starting on page 71598 in the issue of Tuesday, November 25, 2008, make the following correction:

On page 71598, in the first column, under the DATES heading, in the second line “November 25, 2008” should read “January 26, 2009”.

[FR Doc. E8-28015 Filed 12-4-08; 8:45 am]

BILLING CODE 1505-01-D